DEPARTMENT OF ENERGY

Federal Energy Regulatory Commission

[Docket No. RP01-432-001]

Columbia Gas Transmission Corporation; Notice of Compliance Filing

July 19, 2001.

Take notice that on July 12, 2001, Columbia Gas Transmission Corporation (Columbia) tendered for filing as part of its FERC Gas Tariff, Second Revised Volume No. 1, Sub First Revised First Revised Sheet No. 500B bearing a proposed effective date of June 1, 2001.

Columbia states that the instant filing is being made to comply with an Order (Order) issued by the Commission on June 27, 2001. On May 29, 2001 Columbia made a filing with the Commission to re-file service agreements with FirstEnergy Trading Services Inc (FirstEnergy) as non-conforming service agreements to be effective June 1, 2001. The Order accepted the filing conditioned on Columbia re-filing Sheet No. 500B. In the May 29, 2001, filing Columbia inadvertently neglected to list the “Docket No.” applicable to the FirstEnergy contracts. The tariff sheet in the instant filing is being made to correct this oversight.

Columbia states that copies of its filing have been mailed to all firm customers, interruptible customers, and affected state commissions.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18503 Filed 7-24-01; 8:45 am]

BILLING CODE 6717-01-P